DEPARTMENT OF HEALTH AND HUMAN SERVICES

Administration for Children and Families

Submission for Office of Management and Budget (OMB) Review; State Plan for Grants to States for Refugee Resettlement (OMB #0970-0351)

AGENCY: Office of Refugee Resettlement, Administration for Children and Families, U.S. Department of Health and Human Services.

ACTION: Request for public comments.

SUMMARY: The Administration for Children and Families (ACF), Office of Refugee Resettlement (ORR) is requesting a 3-year extension of the State Plan for Grants to States for Refugee Resettlement (Office of Management and Budget #0970-0351, expiration 6/30/2024). ORR is proposing changes to the form.

DATES: Comments due within 30 days of publication. OMB must make a decision about the collection of information between 30 and 60 days after publication of this document in the Federal Register. Therefore, a comment is best assured of having its full effect if OMB receives it within 30 days of publication.

ADDRESSES: Written comments and recommendations for the proposed information collection should be sent within 30 days of publication of this notice to www.reginfo.gov/public/do/PRAMain. Find this particular information collection by selecting “Currently under 30-day Review—Open for Public Comments” or by using the search function. You can also obtain copies of the proposed collection of information by emailing infocollection@acf.hhs.gov. Identify all emailed requests by the title of the information collection.

SUPPLEMENTARY INFORMATION:

Description: A State Plan is a required comprehensive narrative description of the nature and scope of a State's or Replacement Designee's (RD) Refugee Resettlement Program and provides assurances that the program will be administered in conformity with the specific requirements stipulated in 45 CFR 400.4-400.9. The State Plan must include all applicable State or RD procedures, designations, and certifications for each requirement as well as supporting documentation. The plan assures ORR that the State or RD is capable of administering refugee assistance and coordinating employment and other social services for eligible caseloads in conformity with specific requirements.

ORR proposes the following changes to the previously approved State Plan for Grants to States for Refugee Resettlement:

• streamlining/formatting multiple sections of the form, including technical corrections

• enhancing requirements for collaboration and engagement and expanding the non-discrimination aspects

• standardizing sections of the template related to health to reduce burden by clarifying text and removing duplicative parts

• streamlining sections related to the unaccompanied children to reduce burden by providing better options for responses and selections and by removing unnecessary and confusing text to ensure consistency regarding assurances

Respondents: State agencies and RDs under 45 CFR 400.301(c) administering or supervising the administration of programs.

Annual Burden Estimates
Instrument | Total number of respondents | Annual number of responses per respondent | Average burden hours per response | Annual burden hours
State Plan for Grants to States for Refugee Resettlement | 59 | 1 | 18 | 1,062

Authority: 8 U.S.C. 1522 of the Immigration and Nationality Act (the Act) [title IV, sec. 412 of the Act] for each State agency requesting Federal funding for refugee resettlement under 8 U.S.C. 524 [title IV, sec. 414 of the Act]

Mary Jones,
ACF/OPRE Certifying Officer.

[FR Doc. 2024-00704 Filed 1-16-24; 8:45 am]

BILLING CODE 4184-45-P